DEPARTMENT OF COMMERCE

International Trade Administration

[A-580-885]

Phosphor Copper From the Republic of Korea: Antidumping Duty Order

AGENCY: Enforcement and Compliance, International Trade Administration, Department of Commerce.

SUMMARY: Based on an affirmative final determination by the Department of Commerce (“Department”) and the International Trade Commission (“ITC”), the Department is issuing the antidumping duty order on phosphor copper from the Republic of Korea (“Korea”).

DATES: Effective April 24, 2017.

FOR FURTHER INFORMATION CONTACT: Cindy Robinson, AD/CVD Operations, Office III, Enforcement and Compliance, International Trade Administration, U.S. Department of Commerce, 1401 Constitution Avenue NW., Washington, DC 20230; telephone: (202) 482-3797.

SUPPLEMENTARY INFORMATION: In accordance with section 735(d) and 777(i)(1) of the Tariff Act of 1930, as amended (the “Act”), and 19 CFR 351.210(c), on March 3, 2017, the Department published its affirmative final determination in the less than fair value (“LTFV”) investigation of phosphor copper from Korea.¹ On April 17, 2017, the ITC notified the Department of its final determination pursuant to section 735(d) of the Act, that an industry in the United States is materially injured within the meaning of section 735(b)(1)(A)(i) of the Act by reason of LTFV imports of phosphor copper from Korea.²

¹ See Phosphor Copper from the Republic of Korea: Final Affirmative Determination of Sales at Less Than Fair Value and Negative Final Determination of Critical Circumstances, 82 FR 12433 (March 3, 2017) (“Final Determination”).

² See Letter to Ronald Lorentzen, Acting Assistant Secretary of Commerce for Enforcement and Compliance, from Rhonda K Schmidtlein, Chairman of the U.S. International Trade Commission, regarding phosphor copper from the Republic of Korea (April 17, 2017) (“ITC Letter”).

Scope of the Order

The merchandise covered by the order is master alloys ³ of copper containing between five percent and 17 percent phosphorus by nominal weight, regardless of form (including but not limited to shot, pellet, waffle, ingot, or nugget), and regardless of size or weight. Subject merchandise consists predominantly of copper (by weight), and may contain other elements, including but not limited to iron (Fe), lead (Pb), or tin (Sn), in small amounts (up to one percent by nominal weight). Phosphor copper is frequently produced to JIS H2501 and ASTM B-644, Alloy 3A standards or higher; however, merchandise covered by the order includes all phosphor copper, regardless of whether the merchandise meets, fails to meet, or exceeds these standards.

³ A “master alloy” is a base metal, such as copper, to which a relatively high percentage of one or two other elements is added.

Merchandise covered by the order is currently classified in the Harmonized Tariff Schedule of the United States (“HTSUS”) under subheading 7405.00.1000. This HTSUS subheading is provided for convenience and customs purposes; the written description of the scope of the order is dispositive.

Antidumping Duty Order

On April 17, 2017, in accordance with sections 735(b)(1)(A)(i) and 735(d) of the Act, the ITC notified the Department of its final determination in this investigation, in which it found that imports of phosphor copper from Korea are materially injuring a U.S. industry.⁴ Therefore, in accordance with section 735(c)(2) of the Act, we are publishing this antidumping duty order.

⁴ See ITC Letter.

Because the ITC determined that imports of phosphor copper from Korea are materially injuring a U.S. industry, unliquidated entries of such merchandise from Korea, entered or withdrawn for consumption, are subject to the assessment of antidumping duties.

Therefore, in accordance with section 736(a)(1) of the Act, the Department will direct U.S. Customs and Border Protection (“CBP”) to assess, upon further instruction by the Department, antidumping duties equal to the amount by which the normal value of the merchandise exceeds the export price (or constructed export price) of the merchandise, for all relevant entries of phosphor copper from Korea. Antidumping duties will be assessed on unliquidated entries of phosphor copper entered, or withdrawn from warehouse, for consumption on or after October 14, 2016, the date on which the Department published the Preliminary Determination,⁵ but will not include entries occurring after the expiration of the provisional measures period and before publication of the ITC's final injury determination, as further described below.

⁵ See Phosphor Copper from the Republic of Korea: Affirmative Preliminary Determination of Sales at Less-Than-Fair Value, Negative Preliminary Determination of Critical Circumstances, 81 FR 71049 (October 14, 2016) (“Preliminary Determination”).

Continuation of Suspension of Liquidation

In accordance with section 735(c)(1)(B) of the Act, we will instruct CBP to continue to suspend liquidation on entries of subject merchandise from Korea. These instructions suspending liquidation will remain in effect until further notice.

We will also instruct CBP to require cash deposits equal to the estimated weighted-average dumping margins indicated in the chart below. Accordingly, effective on the date of publication of the ITC's final affirmative injury determination, CBP will require, at the same time as importers would normally deposit estimated duties on this subject merchandise, a cash deposit at the rates listed below.⁶ The “all others” rate applies to all producers or exporters not specifically listed.

⁶ See section 736(a)(3) of the Act.

Provisional Measures

Section 733(d) of the Act states that instructions issued pursuant to an affirmative preliminary determination may not remain in effect for more than four months, except where exporters representing a significant proportion of exports of the subject merchandise request the Department to extend that four-month period to no more than six months. At the request of Bongsan Co., Ltd., the sole mandatory respondent in this investigation, the Department extended the four-month period to six months.⁷ In the underlying investigation, the Department published the Preliminary Determination on October 14, 2016.⁸ Therefore, the six-month period beginning on the date of the publication of the Preliminary Determination ended on April 11, 2017. Furthermore, section 737(b) of the Act states that definitive duties are to begin on the date of publication of the ITC's final injury determination.

⁷ See Phosphor Copper from the Republic of Korea: Postponement of Final Determination of Sales at Less-Than-Fair Value, 81 FR 74763 (October 27, 2016) (“Postponement of Final Determination”).

⁸ See Preliminary Determination.

Therefore, in accordance with section 733(d) of the Act and our practice, we will instruct CBP to terminate the suspension of liquidation and to liquidate, without regard to antidumping duties, unliquidated entries of phosphor copper entered, or withdrawn from warehouse, for consumption after April 11, 2017, the date the provisional measures expired, and through the day preceding the date of publication of the ITC's final injury determination in the Federal Register.

Estimated Weighted-Average Dumping Margins

The Department determines that the estimated final weighted-average dumping margins are as follows:

Exporter/producer | Weighted- Average dumping margin (percent)
Bongsan Co., Ltd. | 8.43
All Others | 8.43

Notification to Interested Parties

This notice constitutes the antidumping duty order with respect to phosphor copper from Korea, pursuant to section 736(a) of the Act. Interested parties can find a list of antidumping duty orders currently in effect at http://www.trade.gov/enforcement/.

This order is issued and published in accordance with section 736(a) of the Act and 19 CFR 351.211(b).

Dated: April 20, 2017.
Ronald K. Lorentzen,
Acting Assistant Secretary for Enforcement and Compliance.

[FR Doc. 2017-08358 Filed 4-21-17; 8:45 am]

BILLING CODE 3510-DS-P